DEPARTMENT OF COMMERCE

National Oceanic and Atmospheric Administration

[RTID 0648-XC354]

Endangered Species; File No. 20528

AGENCY: National Marine Fisheries Service (NMFS), National Oceanic and Atmospheric Administration (NOAA), Commerce.

ACTION: Notice; receipt of application for a permit modification.

SUMMARY: Notice is hereby given that Bill Post, South Carolina Department of Natural Resources, 217 Fort Johnson Road, Charleston, SC 29412, has requested a modification to scientific research Permit No. 20528-03.

DATES: Written, telefaxed, or email comments must be received on or before October 13, 2022.

ADDRESSES: The modification request and related documents are available for review by selecting “Records Open for Public Comment” from the Features box on the Applications and Permits for Protected Species (APPS) home page, https://apps.nmfs.noaa.gov, and then selecting File No. 20528 mod 11 from the list of available applications. These documents are also available upon written request via email to NMFS.Pr1Comments@noaa.gov.

Written comments on this application should be submitted via email to NMFS.Pr1Comments@noaa.gov. Please include File No. 20528 in the subject line of the email comment.

Those individuals requesting a public hearing should submit a written request via email to NMFS.Pr1Comments@noaa.gov. The request should set forth the specific reasons why a hearing on this application would be appropriate.

FOR FURTHER INFORMATION CONTACT: Erin Markin, Ph.D., or Malcolm Mohead, (301) 427-8401.

SUPPLEMENTARY INFORMATION: The subject modification to Permit No. 20528-03, issued on February 28, 2022 (87 FR 22193, April 14, 2022) is requested under the authority of the Endangered Species Act of 1973, as amended (16 U.S.C. 1531 et seq.) and the regulations governing the taking, importing, and exporting of endangered and threatened species (50 CFR parts 222-226).

Permit No. 20528-03 authorizes the permit holder to conduct research on Atlantic (Acipenser oxyrinchus) and shortnose (A. brevirostrum) sturgeon to determine their presence, status, health, habitat use, and movements in South Carolina waters. Researchers may use gill nets to capture Atlantic and shortnose sturgeon to measure, weigh, passive integrated transponder tag (PIT), dart tag, tissue sample, acoustically tag, fin ray sample, gonad biopsy, and photograph prior to release. A subset of Atlantic and shortnose sturgeon may receive internal acoustic transmitters. Early life stages of each species may be lethally sampled to document occurrence of spawning in systems. Up to two sturgeon of each species may unintentionally die annually during sampling activities. The permit holder requests authorization in the Edisto River to: (1) increase the number of adult/subadult shortnose sturgeon to be captured, PIT tagged, dart tagged, biologically sampled (tissue sample, fin ray sample), measured, weighed, and photographed prior to release from 10 to 75, annually, and (2) increase the number of juvenile shortnose sturgeon to be captured, PIT tagged, dart tagged, biologically sampled (tissue sample, fin ray sample), measured, weighed, and photographed prior to release from 10 to 20, annually, to accommodate research efforts. The permit is valid through March 31, 2027.

Dated: September 6, 2022.
Julia M. Harrison,
Chief, Permits and Conservation Division, Office of Protected Resources, National Marine Fisheries Service.

[FR Doc. 2022-19766 Filed 9-12-22; 8:45 am]

BILLING CODE 3510-22-P